DEPARTMENT OF HOMELAND SECURITY

Coast Guard

33 CFR Part 117

[Docket No. USCG-2007-0146]

RIN 1625-AA09

Drawbridge Operation Regulation; Milhomme Bayou, Stephensville, LA

AGENCY: Coast Guard, DHS.

ACTION: Final rule.

SUMMARY: The Coast Guard is changing the regulation governing the operation of the Stephensville Bridge across Milhomme Bayou, mile 12.2, (Landside Route) at Stephensville, St. Martin Parish, Louisiana and canceling the test deviation concerning this bridge. Currently the bridge opens on signal, but due to the minimal waterway traffic, the bridge owner requested this change. The rule will require the draw of the bridge to open on signal if at least one hour of advance notice is given. During the advance notice period, the draw shall open on less than one hour notice for an emergency, and shall open on demand should a temporary surge in waterway traffic occur.

DATES: This rule is effective February 1, 2008. The test deviation published on October 5, 2007, 72 FR 56898 is cancelled as of February 1, 2008.

ADDRESSES: Comments and related materials received from the public, as well as documents indicated in this preamble as being available in the docket, are part of docket USCG-2007-0146. The docket is available at http://www.regulations.gov and will include any personal information you have provided.

FOR FURTHER INFORMATION CONTACT: Bart Marcules, Bridge Administration Branch, telephone (504) 671-2128. If you have questions on viewing or submitting material to the docket, call Renee V. Wright, Program Manager, Docket Operations, telephone 202-366-9826.

SUPPLEMENTARY INFORMATION:

Regulatory Information

On October 2, 2007, we published a notice of proposed rulemaking (NPRM) entitled “Drawbridge Operation Regulations; Milhomme Bayou, Stephensville, LA” in the Federal Register (72 FR 56025). We received no letters commenting on the proposed rule. No public meeting was requested, and none was held.

Background and Purpose

St. Martin Parish requested that the operating regulation on the Stephensville Bridge be changed in order to operate the bridge more efficiently. The Stephensville Bridge located on Milhomme Bayou at mile 12.2 (Landside Route of the Morgan City Port Allen Alternate Route) in Stephensville, St. Martin Parish, Louisiana has a vertical clearance of 5.8 feet above mean high water, elevation 3.5 feet Mean Sea Level (MSL) in the closed position and unlimited clearance in the open position. The Stephensville Bridge opened on signal as required by 33 CFR 117.5; however, the waterway traffic is minimal and during the past twelve months an average of 5 boats per day have requested an opening. Most of the boats requesting openings are commercial vessels consisting of tugboats with barges and shrimp trawlers that routinely transit this waterway and are able to give advance notice.

Concurrent with the publication of the Notice of Proposed Rulemaking concerning this schedule of operation, a Test Deviation was published on October 5, 2007, entitled “Drawbridge Operation Regulation; Milhomme Bayou, Stephensville, LA” in the Federal Register (72 FR 56898). This test deviation was issued to allow St. Martin Parish to test the proposed schedule and to obtain data and public comments. This deviation is being canceled upon this final rule going into effect because there have been no comments or complaints, and the new operating schedule will be permanent upon cancellation. This deviation from the operating regulations was authorized under 33 CFR 117.35.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

The current and historical waterway traffic is very minimal with an average of 5 signals to open a day and most signals come from commercial vessels able to schedule an opening. The bridge is also only requiring a one hour advance notice, and will open as soon as possible for emergencies. Also the bridge will open on demand should a temporary surge in waterway traffic occur, and this schedule was tested without any complaints.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. The Coast Guard certifies under 5 U.S.C. 605(b) that this rule will not have a significant economic impact on a substantial number of small entities.

This rule will affect a limited number of small entities. These entities include operators of tugboats and trawlers using the waterway. This rule will have no impact on any small entities because they are able to give notice prior to transiting through this bridge and most vessel operators that require an opening are currently providing advance notice. Lastly, no comments or complaints were received concerning this new operating schedule.

Assistance for Small Entities

Under section 213(a) of the Small Business Regulatory Enforcement Fairness Act of 1996 (Pub. L. 104-121), we offered to assist small entities in understanding the rule so that they could better evaluate its effects on them and participate in the rulemaking process. The Coast Guard provided contact information, so that small entities could ask questions concerning this rule. No small entities contacted the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA) (42 U.S.C. 4321-4370f), and have made a preliminary determination that this action is not likely to have a significant effect on the human environment because it simply promulgates the operating regulations or procedures for drawbridges.

List of Subjects in 33 CFR Part 117

Bridges.

Words of Issuance and Regulatory Text

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. Section 117.481 is added to read as follows:

§ 117.481 Milhomme Bayou

The draw of the Stephensville Bridge, mile 12.2 (Landside Route) at Stephensville shall open on signal if at least one hour of advance notice is given. During the advance notice period, the draw shall open on less than one hour notice for an emergency, and shall open on demand should a temporary surge in waterway traffic occur.

Dated: December 21, 2007.
J.R. Whitehead,
Rear Admiral, U.S. Coast Guard Commander, Eighth Coast Guard District.

[FR Doc. E7-25495 Filed 12-31-07; 8:45 am]

BILLING CODE 4910-15-P